SECURITIES AND EXCHANGE COMMISSION

[Release No. 34-100315; File No. SR-CboeBZX-2024-006]

Self-Regulatory Organizations; Cboe BZX Exchange, Inc.; Notice of Withdrawal of Proposed Rule Change To Amend Rule 11.9(c)(6) and Rule 11.13(a)(4)(D) To Permit the Use of BZX Post Only Orders at Prices Below $1.00

June 11, 2024.

On January 8, 2024, Cboe BZX Exchange, Inc. (“BZX”) filed with the Securities and Exchange Commission (“Commission”), pursuant to section 19(b)(1) of the Securities Exchange Act of 1934 (“Act”),¹ and Rule 19b-4 thereunder,² a proposed rule change (File Number SR-CboeBZX-2024-006) to permit the use of the Post Only order instruction at prices below $1.00. The proposed rule change was published for comment in the Federal Register on January 29, 2024.³ On March 8, 2024, pursuant to section 19(b)(2) of the Act,⁴ the Commission designated a longer period within which to approve the proposed rule change, disapprove the proposed rule change, or institute proceedings to determine whether to disapprove the proposed rule change.⁵ On April 26, 2024, the Commission instituted proceedings pursuant to section 19(b)(2)(B) of the Act ⁶ to determine whether to approve or disapprove the proposed rule change.⁷ The Commission did not receive any comments on the proposal. On June 5, 2024, BZX withdrew the proposed rule change (SR-CboeBZX-2024-006).

¹ 15 U.S.C. 78s(b)(1).

² 17 CFR 240.19b-4.

³ See Securities Exchange Act Release No. 99414 (January 23, 2024), 89 FR 5596.

⁴ 15 U.S.C. 78s(b)(2).

⁵ See Securities Exchange Act Release No. 99698, 89 FR 18694 (March 14, 2024) (designating April 26, 2024, as the date by which the Commission shall either approve, disapprove, or institute proceedings to determine whether to disapprove the proposed rule change).

⁶ 15 U.S.C. 78s(b)(2)(B).

⁷ See Securities Exchange Act Release No. 100038, 89 FR 35866 (May 2, 2024).

⁸ 17 CFR 200.30-3(a)(12).

For the Commission, by the Division of Trading and Markets, pursuant to delegated authority.⁸
Sherry R. Haywood,
Assistant Secretary.

[FR Doc. 2024-13212 Filed 6-14-24; 8:45 am]

BILLING CODE 8011-01-P